DEPARTMENT OF DEFENSE

Office of the Secretary

[Docket ID: DoD-2025-OS-0020]

Request for Information for 2027 Department of Defense (DoD) State Priorities Impacting Service Members and Their Families

AGENCY: Deputy Assistant Secretary of Defense for Military Community and Family Policy, DoD.

ACTION: Request for information.

SUMMARY: This request for information provides an opportunity for the public to submit issues that have an impact on service members and their families where state governments are the primary agents for making positive change. Each year, DoD selects State Policy Priorities for states to consider that represent barriers resulting from the transience and uncertainty of military life. For example, DoD has asked states to consider remedies to improve school transitions for children in active duty military families to overcome problems with records transfer, class and course placement, qualifying for extra-curricular activities, and fulfilling graduation requirements. The DoD will consider the public submissions in setting those priorities.

DATES: Consideration will be given to all submissions received by July 17, 2025.

ADDRESSES: You may submit information in response to this request, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for submissions from members of the public is to make these submissions available for public viewing on the internet at http://www.regulations.gov as they are received without change, including any personal identifiers or contact information.

FOR FURTHER INFORMATION CONTACT: Mr. Christopher R. Arnold, (571) 309-4712 (voice), christopher.r.arnold18.civ@mail.mil (email), 1500 Defense Pentagon, Room 1C514/1C549, Washington, DC 20301-1500 (mailing address).

SUPPLEMENTARY INFORMATION: Current DoD State Policy Priorities may be found at the official Defense-State Liaison Office website: https://statepolicy.militaryonesource.mil.

Issues represent potential state priorities the public believes should be considered by the Department. The proposed solution should positively impact the quality of life of service members and their families, positively contribute to readiness, or both. Inputs must include the following information in order to be considered:

A. Issue title.

B. Description of the issue to include a problem statement, and who is impacted by this issue.

C. Description of a potential solution to this issue, including whether the issue can be improved through a change in state procedures, state regulations, or state statutes.

D. Description of the current status of the issue, and a description of the policies or practices enacted by one or more state governments, if known.

E. Your contact information so that we can follow up if we need any clarification.

Dated: June 11, 2025.
Stephanie J. Bost,
Alternate OSD Federal Register Liaison Officer, Department of Defense.

[FR Doc. 2025-10961 Filed 6-16-25; 8:45 am]

BILLING CODE 6001-FR-P